DEPARTMENT OF THE INTERIOR

Fish and Wildlife Service

Safe Harbor Agreement and Receipt of Application for an Enhancement of Survival Permit Associated With the Restoration of Habitat for Utah Prairie Dogs on Private Land in Piute County, UT

AGENCY: Fish and Wildlife Service, Interior.

ACTION: Notice of availability.

SUMMARY: Mr. Verl Bagley (Applicant/Cooperator) has applied to the Fish and Wildlife Service (Service) for an Enhancement of Survival Permit (ESP) for the Utah prairie dog (UPD) pursuant to section 10(a)(1)(A) of the Endangered Species Act of 1973, as amended (Act). This permit application includes a Safe Harbor Agreement (SHA) between the Applicant and the Service. The Service requests information, views, and opinions from the public via this notice. Further, the Service is soliciting information regarding the adequacy of the SHA as measured against the Service's Safe Harbor Policy and the regulations that implement it.

DATES: Written comments on the permit application must be received on or before March 29, 2007.

ADDRESSES: Persons wishing to review the SHA and the ESP application may obtain a copy by writing the Service's Mountain-Prairie Regional Office, Denver, Colorado. Documents also will be available for public inspection during normal business hours at the Regional Office, 134 Union Boulevard, Denver, Colorado 80228-1807, or the Utah Field Office, U.S. Fish and Wildlife Service, 2369 West Orton Circle, Suite 50, West Valley City, Utah 84119. Written data or comments concerning the SHA or ESP application should be submitted to the Regional office and must be in writing to be processed. Comments must be submitted in writing to be adequately considered in the Service's decision-making process. Please reference permit number TE131544-0 in your comments, or in the request for the documents discussed herein.

FOR FURTHER INFORMATION CONTACT: Pat Mehlhop, Regional Safe Harbor Coordinator (see Denver address above), telephone 303-236-4215, or Larry Crist, Utah Field Office Supervisor (see West Valley City address above), telephone 801-975-3330.

SUPPLEMENTARY INFORMATION: The UPD is the westernmost member of the genus Cynomys. The species' range, which is limited to the southwestern quarter of Utah, is the most restricted of all prairie dog species in the United States. Distribution of the UPD has been greatly reduced due to disease (plague), poisoning, drought, and human-related habitat alteration. Protection of this species and enhancement of its habitat on private land will benefit recovery efforts.

The primary objective of a SHA is to encourage voluntary conservation measures to benefit the species and the landowner. Through this agreement, the landowner will receive relief from any additional section 9 liability under the Act beyond that which exists at the time the agreement is signed (“regulatory baseline”). The property is currently maintained as fallow land, native rangeland, and irrigated pastureland and is bordered by other private lands and Federal lands owned by the Bureau of Land Management. At the present time, the property supports several active prairie dog burrows that comprise a small colony. Several unoccupied burrows also occur on the property. Foraging habitat and habitat that offers visual surveillance for the prairie dogs will be further enhanced by implementing a prescribed grazing plan, seeding to improve the forage quality for UPD, and installing irrigation improvements. Additionally, reintroduction of UPDs will occur on the property once the vegetation conditions have improved.

Habitat improvements will be occurring throughout the term of the agreement through managed grazing. The Cooperator will receive an ESP that authorizes implementation of the conservation actions and other provisions of this Agreement and authorizes incidental take of the covered species above the Cooperator's baseline responsibilities, as defined in SHA. The proposed SHA would become effective upon signature of the SHA and issuance of the permit, and would remain in effect for 15 years. The requested permit would remain in effect for 35 years. We have made the determination that the proposed activities described in the application and SHA will increase available prairie dog habitat and will potentially expand an existing active colony and allow successful establishment of a reintroduced colony of Utah prairie dogs on the Bagley property. The action is categorically excluded under the National Environmental Policy Act (NEPA). This notice is provided pursuant to section 10 of the Act, and the Service's Safe Harbor Policy (64 FR 32717).

The Service has evaluated the impacts of this action under the NEPA and determined that it warrants categorical exclusion as described in 516 DM 8, 8.5 C. (1). The Service will evaluate whether the issuance of the ESP complies with section 7 of the Act by conducting an intra-Service section 7 consultation on the issuance of the permit. The result of the biological opinion, in combination with the above finding and any public comments, will be used in the final analysis to determine whether or not to issue the requested ESP, pursuant to the regulation that guide issuance of the type of permit.

Authority: The authority for this action is the Endangered Species Act of 1973, as amended (16 U.S.C. 1531 et seq.).

Dated: January 11, 2007.
James J. Slack,
Deputy Regional Director, Denver, Colorado.

[FR Doc. E7-3360 Filed 2-26-07; 8:45 am]

BILLING CODE 4310-55-P